DEPARTMENT OF DEFENSE

Defense Acquisition Regulations System

48 CFR Part 209

[Docket DARS-2019-0001]

Defense Federal Acquisition Regulation Supplement: Technical Amendments

AGENCY: Defense Acquisition Regulations System, Department of Defense (DoD).

ACTION: Final rule.

SUMMARY: DoD is making a technical amendment to the Defense Federal Acquisition Regulation Supplement (DFARS) to update the list of debarring and suspending officials.

DATES: Effective April 30, 2019.

FOR FURTHER INFORMATION CONTACT: Ms. Jennifer L. Hawes, Defense Acquisition Regulations System, OUSD(A&S)DPC(DARS), Room 3B941, 3060 Defense Pentagon, Washington, DC 20301-3060. Telephone 571-372-6115; facsimile 571-372-6094.

SUPPLEMENTARY INFORMATION: This final rule amends DFARS 209.403 to add the officials who have been delegated the authority to serve as the debarring and suspending officical for their respective agencies. The Staff Judge Advocate has been delegated authority to serve as the debarring and suspending officical for the United States Cyber Command. The General Counsel has been delegated authority to serve as the debarring and suspending officical for the Defense Health Agency.

List of Subjects in 48 CFR Part 209

Government procurement.

Jennifer Lee Hawes,
Regulatory Control Officer, Defense Acquisition Regulations System.

Therefore, 48 CFR parts 209 is amended as follows:

1. The authority citations for 48 CFR part 209 continue to read as follows:

Authority: 41 U.S.C. 1303 and 48 CFR chapter 1.

PART 209—CONTRACTOR QUALIFICATIONS

2. In section 209.403, revise paragraph (1) of the definition of “debarring and suspending official” to read as follows:

209.403 Definitions.

Debarring and suspending official. (1) For DoD, the designees are—

Army—Director, Soldier & Family Legal Services

Navy/Marine Corps—The Assistant General Counsel (Acquisition Integrity)

Air Force—Deputy General Counsel (Contractor Responsibility)

Defense Advanced Research Projects Agency—The Director

Defense Information Systems Agency—The General Counsel

Defense Intelligence Agency—The Senior Procurement Executive

Defense Logistics Agency—The Special Assistant for Contracting Integrity

National Geospatial—Intelligence Agency—The General Counsel

Defense Threat Reduction Agency—The Director

National Security Agency—The Senior Acquisition Executive

Missile Defense Agency—The General Counsel

United States Cyber Command—The Staff Judge Advocate

Defense Health Agency—The General Counsel

Overseas installations—as designated by the agency head

* * * * *

[FR Doc. 2019-08488 Filed 4-29-19; 8:45 am]

BILLING CODE 5001-06-P